DEPARTMENT OF COMMERCE

National Oceanic and Atmospheric Administration

50 CFR Part 600

[I.D. 071403A]

Magnuson-Stevens Act Provisions; General Provisions for Domestic Fisheries; Application for Exempted Fishing Permit (EFP)

AGENCY: Department of Commerce, National Oceanic and Atmospheric Administration (NOAA), National Marine Fisheries Service (NMFS)

ACTION: Notification of a proposal for an EFP to conduct experimental fishing; request for comments.

SUMMARY: The Assistant Regional Administrator, Northeast Region, NMFS has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue an EFP. Therefore, NMFS announces that the Regional Administrator proposes to issue an EFP that would allow one vessel to conduct fishing operations that are otherwise restricted by the regulations governing the fisheries of the northeastern United States. The EFP would allow the vessel to fish outside the regulated fishing season for shrimp, which occurred in 2003 between January 15- February 27. The proposed experiment would test a semi-pelagic shrimp trawl using 180-ft (54.6-m) bridles, and small mesh (50 mm), with the codend left open. All experimental work would be monitored by University of New Hampshire (UNH) personnel.

Regulations under the Magnuson-Stevens Fishery Conservation and Management Act require publication of this notification to provide interested parties the opportunity to comment on applications for proposed EFPs.

DATES: Comments must be received at the appropriate address or fax number (see ADDRESSES) on or before August 4, 2003.

ADDRESSES: Written comments should be sent to Patricia A. Kurkul, Regional Administrator, NMFS, NE Regional Office, 1 Blackburn Drive, Gloucester, MA 01930. Mark the outside of the envelope “Comments on UNH Semi-Pelagic Shrimp Trawl EFP Proposal.” Comments may also be sent via fax to (978) 281-9135. Comments will not be accepted if submitted via e-mail or the Internet.

FOR FURTHER INFORMATION CONTACT: Heather Sagar, Fisheries Management Specialist, 978-281-9341, or e-mail heather.sagar@noaa.gov.

SUPPLEMENTARY INFORMATION: An initial application from UNH for an EFP was received on June 16, 2003, and the application was completed on July 1, 2003. The proposed study would test a semi-pelagic shrimp trawl net with small mesh (50 mm) and up to 180-ft (54.6-m) bridles, which would be designed in such a way as to reduce seabed impact when trawling for shrimp in the Gulf of Maine. The bridles would not be in contact with the seabed and, therefore, are not expected to adversely affect benthic organisms, demersal species, or the seabed itself. The codend would be left open throughout testing and no fish, therefore, would be retained. The proposed study would take place off the coast of Seabrook, NH, west of 70 W. long., excluding closed areas. One commercial vessel would fish a maximum 4 days, making approximately 6 tows per day, for a total of 24 tows for this study. Tow length would be approximately 1 hour. The participating vessel would be required to notify NMFS prior to commencing an experimental fishing trip. The final phase of the experiment would be data analysis and reporting, including an acoustic monitoring analysis and video analysis. A final report containing the results of the study would be provided to NMFS no later than 6 months following completion of the study.

The EFP would allow this vessel to fish outside the regulated fishing season for shrimp, which occurred in 2003 between January 15-February 27.

Based on the results of this EFP, this action may lead to future rulemaking.

Authority: 16 U.S.C. 1801 et seq.

Dated: July 14, 2003.
Bruce C. Morehead,
Acting Director, Office of Sustainable Fisheries, National Marine Fisheries Service.

[FR Doc. 03-18342 Filed 7-17-03; 8:45 am]

BILLING CODE 3510-22-S